DEPARTMENT OF COMMERCE

Foreign-Trade Zones Board

[Docket 45-2008]

Foreign-Trade Zone 72—Indianapolis, IN; Termination of Review of Application for Subzone GETRAG Transmission Manufacturing LLC (Automotive Transmissions), Tipton, IN

Notice is hereby given of termination of review of an application submitted by the Indianapolis Airport Authority, grantee of FTZ 72, requesting special-purpose subzone status for the automotive transmission manufacturing plant of GETRAG Transmission Manufacturing LLC, located in Tipton, Indiana. The application was filed on August 8, 2008 (73 FR 48194, 8-18-08).

The termination is a result of changed circumstances, and the case has been closed without prejudice.

Dated: September 24, 2009.
Pierre V. Duy,
Acting Executive Secretary.

[FR Doc. E9-23697 Filed 9-30-09; 8:45 am]

BILLING CODE 3510-DS-P